DEPARTMENT OF DEFENSE

Department of the Army

Notice of Availability of Government-Owned Inventions; Available for Licensing

AGENCY: Department of the Army, DoD.

ACTION: Notice.

SUMMARY: The inventions listed below are assigned to the United States Government as represented by the Secretary of the Army. The inventions collectively enable a Tactical Biological Detector (TAC-BIO), and are made available for licensing by the Department of the Army. United States Patent Number 6,967,338 entitled “Micro UV Particle Detector”, United States Patent Number 7,375,348 entitled “Micro UV Detector”, Army Case Numbers; DAM 656-06 entitled “Improved, Front-End Optics to the Micro UV Detector”, DAM 668-07 entitled “Man Portable, Biological Aerosol Detector with High Level of Discrimination”, and DAM 689-08 entitled “Photon Counting Based Particle Detection Algorithm.”

ADDRESSES: Requests for data and inventor interviews should be directed to Eric McGill, telephone: 410-436-8467, eric.s.mcgill@us.army.mil, U.S. Army Edgewood Chemical Biological Center (ECBC), AMSRD-ECB-PI-BP-TT, Bldg E3330/Rm 241 5183 Blackhawk Road, APG, MD 21010-5424. Requests should be made prior to February 20, 2009.

FOR FURTHER INFORMATION CONTACT: Dhirajlal Parekh, Office of Research and Technology Applications, U.S. Army Edgewood Chemical Biological Center, AMSRD-ECB-PI-BP-TT, Bldg E3330/Rm 241 5183 Blackhawk Road, APG, MD 21010-5424, telephone: 410-436-8400, e-mail: dhirajlal.parekh@us.army.mil.

SUPPLEMENTARY INFORMATION: The U.S. Army intends to move expeditiously to commercialize these patents by licensing to a cooperative research and development partner. Licensing application packages are available from ECBC and all applications and commercialization plans should be returned to ECBC by March 20, 2009. The Army intends to ensure that its licensed inventions are broadly commercialized throughout the United States.

Authority: 35 U.S.C. 207, 37 CFR part 404.

Brenda S. Bowen,
Army Federal Register Liaison Officer.

[FR Doc. E9-2537 Filed 2-5-09; 8:45 am]

BILLING CODE 3710-08-P